DEPARTMENT OF HOUSING AND URBAN DEVELOPMENT

[Docket No. FR-5191-N-27]

Notice of Proposed Information Collection: Comment Request Procedures for Appealing Section 8 Rent Adjustments

AGENCY: Office of the Assistant Secretary for Housing, HUD.

ACTION: Notice.

SUMMARY: The proposed information collection requirement described below will be submitted to the Office of Management and Budget (OMB) for review, as required by the Paperwork Reduction Act. The Department is soliciting public comments on the subject proposal.

DATES: Comments Due Date: December 1, 2008.

ADDRESSES: Interested persons are invited to submit comments regarding this proposal. Comments should refer to the proposal by name and/or OMB Control Number and should be sent to: Lillian Deitzer, Departmental Reports Management Officer, QDAM, Department of Housing and Urban Development, 451 7th Street, SW., Washington, DC 20410; e-mail Lillian_L._Deitzer@HUD.gov or telephone (202)402-8048.

FOR FURTHER INFORMATION CONTACT: Program Contact, Director, Office of Housing, Housing Assistance and Grants Administration, Department of Housing and Urban Development, 451 7th Street, SW., Washington, DC 20410, telephone (202) 708-3000 (this is not a toll free number) for copies of the proposed forms and other available information.

SUPPLEMENTARY INFORMATION: The Department is submitting the proposed information collection to OMB for review, as required by the Paperwork Reduction Act of 1995 (44 U.S.C. Chapter 35, as amended).

This Notice is soliciting comments from members of the public and affected agencies concerning the proposed collection of information to: (1) Evaluate whether the proposed collection is necessary for the proper performance of the Section 8 rent appeal process. (2) Evaluate whether to continue the quality of appeal that rendered the initial rent adjustment decision made to local HUD Office or Contract Administrator and Section appeals to HUD Director, who will designate to an Officer to review any appeal.

This Notice also lists the following information:

Title of Proposal: Procedure for Appealing Section 8 Rent Adjustments.

OMB Control Number, if applicable: 2502-0446 Extension.

Description of the need for the information and proposed use: HUD is charged with the responsibility of determining the method of rent adjustments and with facilitating these adjustments. Because rent adjustments are considered benefits to project owners, HUD must also provide some means for owners to appeal the decisions made by the Department or the Contract Administrator. This appeal process, and the information collection included as part of the process, play an important role in preventing costly litigation and in ensuring the accuracy of the overall rent adjustment process.

Agency form numbers, if applicable: Owners will submit rent appeal on owner's letterhead providing a written explanation for the appeal.

Estimation of the total numbers of hours needed to prepare the information collection including number of respondents, frequency of response, and hours of response: The number of burden hours is 800. The number of respondents is 400 the number of responses is 400, the frequency of response is on occasion, and the burden hour per response is 2.

Status of the proposed information collection: This is an extension of a currently approved collection.

Authority: The Paperwork Reduction Act of 1995, 44 U.S.C., Chapter 35, as amended.

Dated: September 22, 2008.
Ronald Y. Spraker,
Acting General Deputy Assistant Secretary for Housing Deputy Federal Housing Commissioner.

[FR Doc. E8-23204 Filed 10-1-08; 8:45 am]

BILLING CODE 4210-67-P